DEPARTMENT OF COMMERCE

Performance Review Board Membership

AGENCY: Economics and Statistics Administration, Department of Commerce.

ACTION: Notice.

SUMMARY: In accordance with 5 U.S.C. 4314(c)(4), the Economics and Statistics Administration (ESA) announces the appointment of members who will serve on the ESA Performance Review Board (PRB). The purpose of the PRB is to provide fair and impartial review of senior executive service and scientific and professional performance appraisals, bonus recommendations, pay adjustments and Presidential Rank Award nominations. The term of each PRB member will expire on December 31, 2018.

DATES: Effective Date: The effective date of service of appointees to the ESA Performance Review Board is based upon publication of this notice.

SUPPLEMENTARY INFORMATION: The names and position titles of the members of the PRB are set forth below:

John M. Abowd, Associate Director for Research and Methodology, Census Bureau

Lisa M. Blumerman, Associate Director for Decennial Census Programs, Census Bureau

William G. Bostic, Jr., Senior Advisor to the Deputy Director, Census Bureau

Stephen B. Burke, Acting Deputy Under Secretary for Economic Affairs, ESA

Joanne Buenzli Crane, Chief Financial Officer, Census Bureau

Austin J. Durrer, Chief of Staff, ESA

Ron S. Jarmin, Associate Director for Economic Programs, Census Bureau

Enrique Lamas, Associate Director for Demographic Programs, Census Bureau

Brent R. Moulton, Associate Director for National Economics, Bureau of Economic Analysis (BEA)

Brian C. Moyer, Director, BEA

Timothy Olson, Associate Director for Field Operations, Census Bureau

Joel D. Platt, Associate Director for Regional Economics, BEA

Nancy A. Potok, Deputy Director, Census Bureau

Mary Saunders, Associate Director for Management Resources, National Institute of Standards and Technology

Angela Simpson, Deputy Assistant Secretary for Communications and Information, National Telecommunications and Information Administration

Jeannie L. Shiffer, Associate Director for Communications, Census Bureau

Erich Strassner, Associate Director for Industry Accounts, BEA

Sarahelen Thompson, Deputy Director, BEA

FOR FURTHER INFORMATION CONTACT: Latasha Ellis, Program Manager, Executive Resources Office, Human Resources Division, Census Bureau, 4600 Silver Hill Road, Washington, DC 20233, 301-763-3727.

Dated: October 4, 2016.
Stephen B. Burke,
Acting Deputy Under Secretary for Economic Affairs, Chair, ESA Performance Review Board.

[FR Doc. 2016-24596 Filed 10-11-16; 8:45 am]

BILLING CODE 3510-BS-P